DEPARTMENT OF THE TREASURY

Office of Foreign Assets Control

Notice of OFAC Sanctions Actions

AGENCY: Office of Foreign Assets Control, Treasury.

ACTION: Notice

SUMMARY: The Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or Assistant Director for Compliance, tel.: 202-622-2490.

SUPPLEMENTARY INFORMATION:

Electronic Availability

The SDN List and additional information concerning OFAC sanctions programs are available on OFAC's website (https://www.treasury.gov/ofac).

Notice of OFAC Action(s)

On April 15, 2024, OFAC determined that the property and interests in property subject to U.S. jurisdiction of the following persons and entities are blocked under the relevant sanctions authorities listed below.

Individuals

1. ALI, Alhaitham Al (a.k.a. AL ALI, Al Haytham; a.k.a. AL-ALI, Al Haitham), Slovakia; DOB 17 Mar 1972; nationality Slovakia; Gender Male; Passport BA4490378 (Slovakia) expires 13 Jan 2027 (individual) [BELARUS-EO14038] (Linked To: BLACK SHIELD COMPANY FOR GENERAL TRADING LLC).

Designated pursuant to section 1(a)(vi) of Executive Order 14038 of August 9, 2021, “Blocking Property of Additional Persons Contributing to the Situation in Belarus,” 86 FR 43905, 3 CFR, 2021 Comp., p. 626 (E.O. 14038) for having materially assisted, sponsored, or provided financial, material, or technological support for, or goods or services to or in support of, BLACK SHIELD COMPANY FOR GENERAL TRADING LLC, an entity whose property and interests in property are blocked pursuant to E.O. 14038.

2. DEIRY, Mohamad Majd (a.k.a. DAYRI, Muhammad Husayn; a.k.a. DEIRY, Mohamad Majd Hussen), Syria; DOB 06 Jun 1961; nationality Syria; Gender Male; Passport 010213193 (Syria) expires 22 Jul 2017; alt. Passport 011786268 (Syria) expires 24 Oct 2019 (individual) [BELARUS-EO14038] (Linked To: BLACK SHIELD COMPANY FOR GENERAL TRADING LLC).

Designated pursuant to section 1(a)(i)(B) of Executive Order 14038 for being or having been a leader, official, senior executive officer, or member of the board of directors of BLACK SHIELD COMPANY FOR GENERAL TRADING LLC, an entity whose property and interests in property are blocked pursuant to E.O. 14038.

3. PROTOPOVICH, Tatyana (a.k.a. PROTOPOVICH, Tayuana), Praspiekt Dziarzynsakaha, 82, Flat 227, Minsk 22089, Belarus; DOB 24 Mar 1996; nationality Belarus; Gender Female; Passport MP4133985 (Belarus); National ID No. 4240396A013PB6 (Belarus) (individual) [BELARUS-EO14038] (Linked To: CENTURONIC LTD).

Designated pursuant to section 1(a)(i)(B) of Executive Order 14038 for being or having been a leader, official, senior executive officer, or member of the board of directors of CENTURONIC LTD, an entity whose property and interests in property are blocked pursuant to E.O. 14038.

4. RAYYA, Samer (a.k.a. RAYYA, Samer Samir), Maroun al Nakkash, Beirut, Lebanon; DOB 15 Aug 1979; nationality Lebanon; Gender Male; Passport PR0157356 (Lebanon) expires 24 Aug 2022 (individual) [BELARUS-EO14038] (Linked To: BLACK SHIELD COMPANY FOR GENERAL TRADING LLC).

Designated pursuant to section 1(a)(i)(B) of Executive Order 14038 for being or having been a leader, official, senior executive officer, or member of the board of directors of BLACK SHIELD COMPANY FOR GENERAL TRADING LLC, an entity whose property and interests in property are blocked pursuant to E.O. 14038.

5. YAGMUR, Nora (a.k.a. YAGMUR, Nure), Turkey; DOB 01 Jan 1977; POB Upsala Isvech, Sweden; nationality Sweden; Gender Female; Passport 94954203 (Sweden) expires 29 Jun 2023; National ID No. 22121484408 (Turkey) (individual) [BELARUS-EO14038] (Linked To: RAYYA DANISMANLIK HIZMETLERI LIMITED SIRKETI).

Designated pursuant to section 1(a)(i)(B) of Executive Order 14038 for being or having been a leader, official, senior executive officer, or member of the board of directors of RAYYA DANISMANLIK HIZMETLERI LIMITED SIRKETI, an entity whose property and interests in property are blocked pursuant to E.O. 14038.

Entities

1. BLACK SHIELD COMPANY FOR GENERAL TRADING LLC (a.k.a. BLACK SHIELD COMPANY LTD.), Villa S6/35, New Azadi Atconz, Ainkawa, Erbil, Iraq; Business Registration Number 21756 (Iraq) [BELARUS-EO14038] (Linked To: KIDMA TECH OJSC).

Designated pursuant to section 1(a)(vi) of E.O. 14038 for having materially assisted, sponsored, or provided financial, material, or technological support for, or goods or services to or in support of, KIDMA TECH OJSC, an entity whose property and interests in property are blocked pursuant to E.O. 14038.

2. CENTURONIC LTD, ABC Business Centre, Flat No: Flat 15, Floor No: Floor 1st, Charalampou Moyskou 20, Paphos 8010, Cyprus; Organization Established Date 23 Mar 2018; Business Registration Number 382931 (Cyprus) [BELARUS-EO14038] (Linked To: RAYYA, Samer).

Designated pursuant to section 1(a)(vii) of E.O. 14038 for being owned or controlled by, or having acted or purported to act for or on behalf of, directly or indirectly, RAYYA, Samer, an individual whose property and interests in property are blocked pursuant to E.O. 14038.

3. PHOENIX LINES S.R.O., Dunajska 7614/8, Bratislava 81108, Slovakia; Organization Established Date 13 Oct 2016; Business Registration Number 50546813 (Slovakia) [BELARUS-EO14038] (Linked To: ALI, Alhaitham Al).

Designated pursuant to section 1(a)(vii) of E.O. 14038 for being owned or controlled by, or having acted or purported to act for or on behalf of, directly or indirectly, ALI, Alhaitham Al, an individual whose property and interests in property are blocked pursuant to E.O. 14038.

4. RAYYA DANISMANLIK HIZMETLERI LIMITED SIRKETI, B-48, No. 3 Maltepe Mahallesi, Istanbul 34010, Turkey; Organization Established Date 14 Dec 2018; Business Registration Number 9418 (Turkey) [BELARUS-EO14038] (Linked To: RAYYA, Samer).

Designated pursuant to section 1(a)(vii) of E.O. 14038 for being owned or controlled by, or having acted or purported to act for or on behalf of, directly or indirectly, RAYYA, Samer, an individual whose property and interests in property are blocked pursuant to E.O. 14038.

5. S. GROUP AIRLINES LTD, ABC Business Centre, Flat No: Flat 105, Floor No: Floor 1st, Charalampou Moyskou 20, Paphos 8010, Cyprus; Organization Established Date 23 Apr 2018; Business Registration Number 382880 (Cyprus) [BELARUS-EO14038] (Linked To: RAYYA, Samer).

Designated pursuant to section 1(a)(vii) of E.O. 14038 for being owned or controlled by, or having acted or purported to act for or on behalf of, directly or indirectly, RAYYA, Samer, an individual whose property and interests in property are blocked pursuant to E.O. 14038.

Dated: April 15, 2024.
Bradley T. Smith,
Director, Office of Foreign Assets Control, U.S. Department of the Treasury.

[FR Doc. 2024-08351 Filed 4-18-24; 8:45 am]

BILLING CODE 4810-AL-P